DEPARTMENT OF TRANSPORTATION

National Highway Traffic Safety Administration

[Docket No. NHTSA 2001-9426, Notice 2]

Mazda Motor Corporation, Grant of Application for Decision That a Noncompliance Is Inconsequential to Motor Vehicle Safety

Mazda Motor Corporation has determined that certain 2000 Mazda MPVs do not meet the maximum load rating requirements of paragraph S5.1 or the vehicle labeling requirements of paragraph S5.2 of Federal Motor Vehicle Safety Standard (FMVSS) No. 120 “Tire Selection and Rims for Motor Vehicles Other than Passenger Cars.” Pursuant to 49 U.S.C. 30118(d) and 30120(h), Mazda has petitioned for a determination that this noncompliance is inconsequential to motor vehicle safety and has filed an appropriate report pursuant to 49 CFR part 573, “Defect and Noncompliance Reports.”

Notice of receipt of the application was published on May 1, 2001, with a 30-day comment period (66 FR 21820). NHTSA received no comments on this application.

Mazda manufactured 19,569 model year 2000 MPVs equipped with 15-inch tires marked with a load rating that is not appropriate for the vehicle's certified rear gross axle weight rating (GAWR), a noncompliance with paragraph S5.1.2 of FMVSS No. 120. Mazda's Petition stated that the subject vehicles were equipped with tires that were incorrectly labeled with a load index of 92S and a maximum load rating 635 kg, but should have been labeled with a load rating of 94S and a maximum load rating of 670 kg. Further review of Mazda's Petition indicates that the P205/65R15 92S original equipment tires manufactured by Dunlop and Yokohama are correctly marked with a maximum load rating of 635 kg. However, both Dunlop and Yokohama provided Mazda with documentation stating that the subject tires passed the tests required for tires with a 94S tire load index, which corresponds to a maximum load rating of 670 kg. For the 2000 Mazda MPV, the 670 kg maximum load rating is sufficient to meet the requirements of FMVSS No. 120, paragraph S5.1.2, and is sufficient to bear the load for which the vehicle is rated.

Mazda argued that the noncompliance is inconsequential to motor vehicle safety because the original equipment tires, though labeled 635 kg, meet the requirements for tires with a load rating of 670 kg. Additionally, Mazda provided the purchasers of the subject vehicles with a letter which reads in part as follows: “Mazda has learned that on some vehicles equipped with Dunlop or Yokohama 15″ tires, the size specification stamped on the side-wall of the tire, the driver's door label and the tire specification label in the Owner's Manual is incorrectly marked as P205/65R15 92S. The correct tire size is 205/65/R15 94S. Additionally, the letter ‘P’ has been removed from the tire size number. As these tires meet the ‘94S’ specification, they will not need to be replaced * * * If there is a need to replace any of these tires in the future due to normal wear, please make certain the replacement tires have the ‘94S’ rating.”

Mazda's petition also stated that the company produced 6,036 vehicles with 15-inch steel rims that are noncompliant with the requirements of FMVSS No. 120, S5.2. These rims are marked with the correct size designation, rim manufacturer information, and date of production. However, the rims are not marked with a designation indicating the source of the rims' published nominal dimensions, as required by S5.2(a), or the “DOT” symbol required by S5.2(c).

Mazda argued that the noncompliance with S5.2(a) is inconsequential to motor vehicle safety because the dimensions for the 15X6JJ rim do not vary significantly among the different publication sources. Mazda has compared the dimensions of the 15X6JJ rims in the Japanese Automobile Tire Manufacturers Association and the Tire and Rim Association Year Books for the year 2000 and determined that the rims are interchangeable. According to Mazda, any rim of the correct size designation (15X6JJ) should be appropriate for use on the 2000 Mazda MPV. With respect to the DOT symbol marking, Mazda argued that the 15-inch steel rims comply with all federal requirements that may have an impact on motor vehicle safety and does not consider this noncompliance to be a safety problem.

The agency believes the true measure of inconsequentiality in the case of the noncompliance with FMVSS No. 120, paragraph S5.1.2 is the safety of the vehicles that are in noncompliance and the likelihood that the tires on these vehicles would be placed in an unsafe, overloaded situation. Mazda received documents from Yokohama and Dunlop stating that the subject tires meet the maximum load requirements for tires with a load rating of 670 kg, or a load index of 94S. Additionally, Mazda informed owners of the subject vehicles via letter that when the original equipment tires are replaced, they should be replaced with tires with a maximum load rating of at least 670 kg, or a 94S load index. The letter to the vehicle owners also informed the owners that the tire size information in the owner's manual and on the vehicle certification label contains errors and included corrected owner's manual insert pages and a revised certification/tire information label. Thus, the agency believes that the noncompliant tires would not be a safety problem.

The agency believes the true measure of inconsequentiality with respect to the noncompliance with paragraph S5.2(a), is the likelihood that inappropriate rims may be installed on these vehicles. Based on the information provided by Mazda, the omission of the symbol designating the publication in which the rim dimensions can be obtained will not likely result in the use of rims with dimensions that are not appropriate for the vehicle. The rim size is properly labeled on these rims. The specifications for the significant dimensions (diameter, width, etc.) of 15X6JJ rims listed in the Tire and Rim Association's 2000 Year Book and the Japanese Automobile Tire Manufacturers Association's 2000 Year Book indicate that the rims are interchangeable. Since it is highly unlikely that a replacement rim of the proper size and type would have dimensions that are unsuitable for the Mazda vehicles, the agency believes the noncompliance is inconsequential to motor vehicle safety.

The “DOT” symbol is marked on tires, tire rims, motor vehicle equipment items, and motor vehicles to certify compliance with various safety standards. The agency regards the noncompliance with paragraph S5.2(c) as a failure to comply with the certification requirements of 49 U.S.C. 30115, and not a compliance failure requiring notification and remedy.

In consideration of the foregoing, NHTSA has decided that the applicant has met its burden of persuasion that the noncompliance with FMVSS No. 120, paragraphs S5.1 and S5.2, are inconsequential to motor vehicle safety. Accordingly, Mazda's application is granted and the company is exempted from providing the notification of the noncompliance that would be required by 49 U.S.C. 30118, and from remedying the noncompliance, as would be required by 49 U.S.C. 30120.

(49 U.S.C. 301118, 301120; delegations of authority at 49 CFR 1.50 and .501.8)
Issued on: April 17, 2002.
Stephen R. Kratzke,
Associate Administrator for Safety Performance Standards.

[FR Doc. 02-9828 Filed 4-22-02; 8:45 am]

BILLING CODE 4910-59-P